OFFICE OF MANAGEMENT AND BUDGET

Draft 2018-2019-2020 Report to Congress on the Benefits and Costs of Federal Regulations and Agency Compliance With the Unfunded Mandates Reform Act

AGENCY: Office of Management and Budget, Executive Office of the President.

ACTION: Notice of availability and request for comments.

SUMMARY: The Office of Management and Budget (OMB) requests comments on its Draft 2018-2019-2020 Report to Congress on the Benefits and Costs of Federal Regulations and Agency Compliance with the Unfunded Mandates Reform Act, available at: https://www.whitehouse.gov/omb/information-regulatory-affairs/reports/. The Draft Report is divided into two parts, the first of which is further divided into three chapters. Part I, Chapter I examines the benefits and costs of major Federal regulations issued in fiscal years 2017, 2018 and 2019. Part I, Chapter II discusses regulatory impacts on State, Local, and tribal governments, small business, wages and employment, and economic growth. Part I, Chapter III offers recommendations for regulatory reform. Part II summarizes agency compliance with the Unfunded Mandates Reform Act. OMB requests that comments be submitted electronically to OMB by February 20, 2020, through www.regulations.gov using Docket ID OMB-2019-0004.

DATES: To ensure consideration of comments as OMB prepares this Draft Report for submission to Congress, comments must be in writing and received by February 20, 2020.

ADDRESSES: Submit comments by one of the following methods:

• www.regulations.gov: Direct comments to Docket ID OMB-2019-0004.

• Fax: (202) 395-7285

• Mail: Office of Information and Regulatory Affairs, Office of Management and Budget, New Executive Office Building, 9th Floor, 725 17th Street NW, Washington, DC 20503. To ensure that your comments are received, we recommend that comments on this draft report be electronically submitted.

All comments submitted in response to this notice will be made available to the public. For this reason, please do not include in your comments information of a confidential nature, such as sensitive personal information or proprietary information. The www.regulations.gov website is an “anonymous access” system, which means OMB will not know your identity or contact information unless you provide it in the body of your comment.

FOR FURTHER INFORMATION CONTACT: Italy Martin, Office of Information and Regulatory Affairs, Office of Management and Budget, New Executive Office Building, 9th Floor, 725 17th Street NW, Washington, DC 20503. Telephone: (202) 395-1046.

SUPPLEMENTARY INFORMATION: Congress directed the Office of Management and Budget to prepare an annual Report to Congress on the Benefits and Costs of Federal Regulations. Specifically, Section 628 of the FY 2000 Treasury and General Government Appropriations Act, also known as the “Regulatory Right-to-Know Act,” requires OMB to submit a report on the benefits and costs of Federal regulations together with recommendations for reform. It states that the report should contain estimates of the costs and benefits of regulations in the aggregate, by agency and agency program, and by major rule, as well as an analysis of impacts of Federal regulation on State, local, and tribal governments, small businesses, wages, and economic growth. The Regulatory Right-to-Know Act also states that the report should be subject to notice and comment and to peer review. Additionally, in accordance the Unfunded Mandates Reform Act of 1995 (UMRA), OMB reports on agency compliance with UMRA Title II, which generally requires that an agency conduct a cost-benefit analysis, and identify and consider a reasonable number of regulatory alternatives, before proposing or finalizing a rule that may result in expenditures of more than $100 million (adjusted for inflation) in at least one year by State, local, and tribal governments, or by the private sector; each agency must also seek input from State, local, and tribal governments.

Dominic J. Mancini,
Acting Administrator, Office of Information and Regulatory Affairs.

[FR Doc. 2019-28060 Filed 12-27-19; 8:45 am]

BILLING CODE 3110-01-P